DEPARTMENT OF COMMERCE

National Oceanic and Atmospheric Administration

50 CFR Part 648

[Docket No. 150105004-5355-01]

RIN 0648-XF377

Fisheries of the Northeastern United States; Northeast Multispecies Fishery; Possession and Trip Limit Implementation for the Common Pool Fishery

AGENCY: National Marine Fisheries Service (NMFS), National Oceanic and Atmospheric Administration (NOAA), Commerce.

ACTION: Temporary rule; possession and trip limit implementation.

SUMMARY: This action sets the initial possession and trip limits for Northeast multispecies common pool vessels for the 2017 fishing year. The regulations authorize the Regional Administrator to implement trip limits for common pool vessels in order to prevent exceeding the pertinent common pool quotas. This action is intended to optimize the harvest of Northeast regulated multispecies.

DATES: The possession and trip limit implementation is effective at 0001 hours on May 1, 2017, through April 30, 2018.

FOR FURTHER INFORMATION CONTACT: Spencer Talmage, Fishery Management Specialist, 978-281-9232.

SUPPLEMENTARY INFORMATION: The regulations at § 648.86(o) authorize the Regional Administrator (RA) to implement possession and trip limits for common pool vessels in order to prevent the overharvest of common pool quotas. Effective May 1, 2017, this action sets the initial possession and trip limits for the 2017 fishing year, as summarized in Tables 1 and 2 below. These possession and trip limits were developed after considering any changes to the common pool quota, preliminary 2017 sector rosters, and 2016 catch rates. These adjustments are intended to facilitate optimized harvest of the common pool quotas and prevent early trimester closures.

The initial 2017 possession and trip limits are the same as the initial 2016 limits, with the exception of four stocks (Georges Bank (GB) cod, Gulf of Maine (GOM) haddock, Southern New England/Mid-Atlantic (SNE/MA) yellowtail flounder, and witch flounder). The initial possession and trip limit for GB cod outside the Eastern U.S./Canada area and witch flounder are reduced relative to initial 2016 possession and trip limits to prevent early stock area closures in Trimester 1 as occurred in 2016. For GOM haddock and SNE/MA yellowtail flounder, the initial 2017 limits are higher than the initial 2016 limits to allow additional opportunities given that quota utilization was low for these stocks in 2016.

For Handgear A and Handgear B vessels, possession and trip limits for GB and GOM cod are tied to the possession and trip limits for groundfish days-at-sea (DAS) vessels. The default cod trip limit is 300 lb (136 kg) for Handgear A vessels and 75 lb (34 kg) for Handgear B vessels. If the GOM or GB cod landing limit for vessels fishing on a groundfish DAS drops below 300 lb (136 kg), then the respective Handgear A cod trip limit must be reduced to the same limit. Similarly, the Handgear B trip limit must be adjusted proportionally (rounded up to the nearest 25 lb (11 kg)) to the DAS limit. This action sets the trip limit of GOM cod to 25 lb (11 kg) per DAS, up to 100 lb (45 kg) per trip for vessels fishing on a groundfish DAS, which is 97 percent lower than the default limit specified in the regulations for these vessels (800 lb (363 kg) per DAS). As a result, the Handgear A and Handgear B trip limit for GOM cod is 25 lb (11 kg) per trip. This action sets the possession and trip limit of GB cod at 250 lb (136 kg) per DAS, up to 500 lb (227 kg) per trip for vessels fishing on a groundfish DAS outside the Eastern U.S./Canada Area. As a result, the Handgear A trip limit for GB cod is also set at 250 lb (136 kg) per trip, and the Handgear B trip limit is 25 lb (11 kg) per trip.

Weekly quota monitoring reports for the common pool fishery can be found on our Web site at: http://www.greateratlantic.fisheries.noaa.gov/ro/fso/MultiMonReports.htm. We will continue to monitor common pool catch through vessel trip reports, dealer-reported landings, vessel monitoring system catch reports, and other available information and, if necessary, we will make additional adjustments to common pool management measures.

Table 1—Initial 2016 and Initial 2017 Common Pool Possession and Trip Limits
Stock | 2016 Trip limit | 2017 Trip limit
GB Cod (outside Eastern U.S./Canada Area) | 500 lb (227 kg) per DAS, up to 2,500 lb per (1,134 kg) per trip | 250 lb (113 kg) per DAS, up to 500 lb per (227 kg) per trip.
GB Cod (inside Eastern U.S./Canada Area) | 100 lb (45 kg) per DAS, up to 500 lb (227 kg) per trip | 100 lb (45 kg) per DAS, up to 500 lb (227 kg) per trip.
GOM Cod | 25 lb (11 kg) per DAS, up to 100 lb (45 kg) per trip | 25 lb (11 kg) per DAS, up to 100 lb (45 kg) per trip.
GB Haddock | 100,000 lb (45,359 kg) per trip | 100,000 lb (45,359 kg) per trip.
GOM Haddock | 200 lb (91 kg) per DAS up to 600 lb (272 kg) per trip | 500 lb (227 kg) per DAS up to 1,000 lb (454 kg) per trip.
GB Yellowtail Flounder | 100 lb (45 kg) per trip | 100 lb (45 kg) per trip.
SNE/MA Yellowtail Flounder | 250 lb (113 kg) per DAS, up to 500 lb (227 kg) per trip | 500 lb (227 kg) per DAS, up to 1,000 lb (454 kg) per trip.
Cape Cod (CC)/GOM Yellowtail Flounder | 750 lb (340 kg) per DAS up to 1,500 lb (680 kg) per trip | 750 lb (340 kg) per DAS up to 1,500 lb (680 kg) per trip.
American plaice | 1,000 lb (454 kg) per trip | 1,000 lb (454 kg) per trip.
Witch Flounder | 250 lb (113 kg) per trip | 150 lb (68 kg) per trip.
GB Winter Flounder | 250 lb (113 kg) per trip | 250 lb (113 kg) per trip.
GOM Winter Flounder | 2,000 lb (907 kg) per trip | 2,000 lb (907 kg) per trip.
SNE/MA Winter Flounder | 2,000 lb (907 kg) per DAS, up to 4,000 lb (1,814 kg) per trip | 2,000 lb (907 kg) per DAS, up to 4,000 lb (1,814 kg) per trip.
Redfish | Unlimited | Unlimited.
White hake | 1,500 lb (680 kg) per trip | 1,500 lb (680 kg) per trip.
Pollock | Unlimited | Unlimited.
Atlantic Halibut | 1 fish per trip | 1 fish per trip.
Windowpane Flounder Ocean Pout Atlantic Wolffish | Possession Prohibited | Possession Prohibited.

Table 2—Initial 2016 and Initial 2017 Fishing Year Cod Trip Limits for Handgear A, Handgear B, and Small Vessel Category Permits
Permit | Initial 2016 trip limit | Initial 2017 trip limit
Handgear A GOM Cod | 25 lb (11 kg) per trip | 25 lb (11 kg) per trip.
Handgear A GB Cod | 300 lb (136 kg) per trip | 250 lb (113 kg) per trip.
Handgear B GOM Cod | 25 lb (11 kg) per trip | 25 lb (11 kg) per trip.
Handgear B GB Cod | 25 lb (11 kg) per trip | 25 lb (11 kg) per trip.
Small Vessel Category | 300 lb of cod, haddock, and yellowtail flounder combined; additionally, vessels are limited to the common pool DAS limit for all stocks. | 300 lb of cod, haddock, and yellowtail flounder combined; additionally, vessels are limited to the common pool DAS limit for all stocks.

As a reminder, Table 3 includes the common pool trimester Total Allowable Catches (TACs) for fishing year 2017. These trimester TACs are based on preliminary sector rosters. However, individual permit holders have until the end of the 2016 fishing year (April 30, 2017) to drop out of a sector and fish in the common pool fishery for the 2017 fishing year. Therefore, it is possible that the sector and common pool catch limits, including the trimester TACs, may change due to changes in sector rosters. If changes to sector rosters occur, updated catch limits and/or possession and trip limits will be announced as soon as possible in the 2017 fishing year to reflect the final sector rosters as of May 1, 2017. The regulations also require that any overages of the common pool quota be deducted from the respective quota in the following fishing year. If final fishing year 2016 catch information indicates the common pool exceeded its quota for any stock, we would reduce the common pool quota, as required, in a future action.

Additionally, we are working to publish a proposed rule for Framework Adjustment 56. If approved, Framework 56 would substantively increase the 2017 catch limit for witch flounder. In the Framework 56 proposed rule, we intend to propose a change to the common pool trip limit for witch flounder consistent with the recommended quota increase.

Table 3—Common Pool Trimester Total Allowable Catches for Fishing Year 2017
[mt, live weight]
Stock | Percentage of quota: Trimester 1 | Percentage of quota: Trimester 2 | Percentage of quota: Trimester 3 | 2017: Trimester 1 | 2017: Trimester 2 | 2017: Trimester 3
GB Cod | 25 | 37 | 38 | 2.9 | 4.4 | 4.5
GOM Cod | 27 | 36 | 37 | 2.7 | 3.6 | 3.7
GB Haddock | 27 | 33 | 40 | 84.3 | 103.0 | 124.8
GOM Haddock | 27 | 26 | 47 | 10.0 | 9.6 | 17.3
GB Yellowtail Flounder | 19 | 30 | 52 | 0.8 | 1.3 | 2.2
SNE/MA Yellowtail Flounder | 21 | 37 | 42 | 7.2 | 12.7 | 14.4
CC/GOM Yellowtail Flounder | 35 | 35 | 30 | 5.5 | 5.5 | 4.7
American Plaice | 24 | 36 | 40 | 5.2 | 7.8 | 8.7
Witch Flounder | 27 | 31 | 42 | 2.3 | 2.7 | 3.6
GB Winter Flounder | 8 | 24 | 69 | 0.4 | 1.2 | 3.3
GOM Winter Flounder | 37 | 38 | 25 | 12.6 | 12.9 | 8.5
Redfish | 25 | 31 | 44 | 14.3 | 17.7 | 25.1
White Hake | 38 | 31 | 31 | 9.8 | 8.0 | 8.0
Pollock | 28 | 35 | 37 | 32.5 | 40.6 | 42.9

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be contrary to the public interest. The regulations at § 648.86(o) authorize the RA to adjust the Northeast multispecies possession and trip limits for common pool vessels in order to prevent the overharvest or underharvest of the pertinent common pool quotas. This action sets the initial common pool possession and trip limits on May 1, 2017, for the 2017 fishing year. The possession and trip limits implemented through this action help to ensure that the Northeast multispecies common pool fishery may achieve the optimum yield (OY) for the relevant stocks, while controlling catch to help prevent inseason closures or quota overages. Delay of this action would leave the common pool fishery with no possession or trip limits to control catch and would likely lead to early closure of a trimester and quota overages. Any overage of catch must be deducted from the Trimester 3 quota, which could substantially disrupt the trimester structure and intent to distribute the fishery across the entire fishing year. An overage reduction in Trimester 3 would further reduce fishing opportunities for common pool vessels and likely result in early closure of Trimester 3.

This would undermine management objectives of the Northeast Multispecies Fishery Management Plan and cause unnecessary negative economic impacts to the common pool fishery.

Authority: 16 U.S.C. 1801 et seq.

Dated: April 26, 2017.
Karen H. Abrams,
Acting Deputy Director, Office of Sustainable Fisheries National Marine Fisheries Service.

[FR Doc. 2017-08809 Filed 4-27-17; 4:15 pm]

BILLING CODE 3510-22-P